ENVIRONMENTAL PROTECTION AGENCY

[FRL-9987-79-OARM]

Good Neighbor Environmental Board; Notification of Public Advisory Committee Teleconference

AGENCY: Environmental Protection Agency (EPA).

ACTION: Notice of Public Advisory Committee Teleconference.

SUMMARY: Pursuant to the Federal Advisory Committee Act, notice is hereby given that the Good Neighbor Environmental Board (Board) will hold a public teleconference on December 19, 2018 from 12:00 p.m.-4:00 p.m. Eastern Daylight Time. Due to unforeseen administrative circumstances, EPA is announcing this teleconference with less than 15 calendar days' notice. For further information regarding the teleconference and background materials, please contact Ann-Marie Gantner at the number and email provided below.

Background: The Good Neighbor Environmental Board is a federal advisory committee chartered under the Federal Advisory Committee Act, Public Law 92-463. By statute, the Board is required to submit an annual report to the President on environmental and infrastructure issues along the U.S. border with Mexico.

Purpose of Meeting: The purpose of this teleconference is to discuss and approve the Board's annual letter to the President, which focuses on energy infrastructure along the U.S.-Mexico border.

General Information: The agenda and teleconference materials, as well as general information about the Board, can be found at http://www2.epa.gov/faca/gneb. If you wish to make oral comments or submit written comments to the Board, please contact Ann-Marie Gantner at least five days prior to the teleconference.

Meeting Access: For information on access or services for individuals with disabilities, please contact Ann-Marie Gantner at (202) 564-4330 or email at gantner.ann-marie@epa.gov. To request accommodation of a disability, please contact Ann-Marie Gantner at least 10 days prior to the meeting to give EPA as much time as possible to process your request.

Dated: December 4, 2018.
Ann-Marie Gantner,
Designated Federal Officer.

[FR Doc. 2018-26918 Filed 12-11-18; 8:45 am]

BILLING CODE 6560-50-P